DEPARTMENT OF HOMELAND SECURITY

Coast Guard

33 CFR Part 117

[Docket No. USCG-2019-0155]

RIN 1625-AA09

Drawbridge Operation Regulations; Bayou Lafourche, LA

AGENCY: Coast Guard, DHS.

ACTION: Notice of temporary deviation from regulations; request for comments.

SUMMARY: The Coast Guard is issuing a temporary deviation to the operating schedule that regulates six drawbridges across Bayou Lafourche, Lafourche Parish, Louisiana. These drawbridges are located south of the Gulf Intracoastal Waterway and cross Bayou Lafourche at miles 38.7, 36.3, 33.9, 30.6, 27.8 and 23.9. This deviation is needed to collect and analyze information on vehicle traffic congestion on SR 308 and LA-1 created when the drawbridges open to vessels and the impact to the reasonable needs of navigation when the bridges close to vessels during periods of high vehicle traffic. During this temporary deviation the drawbridge will remain closed to navigation.

DATES: This deviation is effective from 6 a.m. on March 25, 2019 to 6 a.m. on July 22, 2019. Comments and related material must be received by the Coast Guard on or before August 22, 2019.

ADDRESSES: You may submit comments identified by docket number USCG-2019-0155 using Federal eRulemaking Portal at http://www.regulations.gov.

See the “Public Participation and Request for Comments” portion of the SUPPLEMENTARY INFORMATION section for further instructions on submitting comments.

FOR FURTHER INFORMATION CONTACT: If you have questions about this rulemaking, call or email Mr. Doug Blakemore, Eighth Coast Guard District Bridge Administrator; telephone (504) 671-2128, email Douglas.A.Blakemore@uscg.mil.

SUPPLEMENTARY INFORMATION:

I. Table of Abbreviations

CFR Code of Federal Regulations

DHS Department of Homeland Security

FR Federal Register

LADOTD Louisiana Department of Transportation and Development

GLPC Greater Lafourche Port Commission

§ Section

U.S.C. United States Code

II. Background, Purpose, and Legal Basis

The Greater Lafourche Port Commission (GLPC) has requested to change the operating requirements for the following bridges that cross Bayou Lafourche in Lafourche Parish, Louisiana: Larose vertical lift bridge, mile 38.7, Larose, LA; Cut Off vertical lift bridge, mile 36.3, Cut Off, LA; Cote Blanche pontoon bridge, mile 33.6, Cut Off, LA; Tarpon vertical lift bridge, mile 30.6, Galliano, LA; Galliano pontoon bridge, mile 27.8, Galliano, LA; Golden Meadow vertical lift bridge, mile 23.9, Golden Meadow, LA. These bridges currently open according to 33 CFR 117.465.

The GLPC requested changing these bridge operating regulations because vehicle and school bus traffic has become congested along SR 308 and LA-1 during morning commute hours. There are five schools located along this part of Bayou Lafourche. School buses must cross the drawbridges to pick up and deliver students to their respective schools. School buses recently began picking up students 15 minutes earlier in the morning. To alleviate bus and vehicle congestion GLPC has asked to align morning bridge closures with this shift in student pick-up times.

The 120-day temporary deviation to the regulation will allow GLPC to collect additional vehicle traffic data to measure the impact of bridge closures on traffic congestion. It will also allow the Coast Guard to collect data on the impact of the proposed regulation change on vessels.

During this temporary deviation these bridges will operate as follows:

The draws of the following bridges shall open on signal; except that, from August 1 through May 31, the draw need not open for the passage of vessels Monday through Friday except Federal holidays from 6:30 a.m. to 8:15 a.m.; from 2 p.m. to 4 p.m. and from 4:30 p.m. to 5:30 p.m., unless otherwise indicated:

(1) SR 308 (Golden Meadow) Bridge, mile 23.9, at Golden Meadow

(2) Galliano Pontoon Bridge, mile 27.8, at Galliano

(3) SR 308 (South Lafourche (Tarpon)) Bridge, mile 30.6, at Galliano

(4) Cote Blanche Pontoon Bridge, mile 33.9, at Cutoff

(5) Cutoff Vertical Lift Bridge, mile 36.3, at Cutoff

(6) LA-657 (Larose) Vertical Lift Bridge, mile 38.7, at Larose.

The bridge will open on signal for emergencies.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

III. Public Participation and Request for Comments

Public participation is essential to effective rulemaking. The Coast Guard will consider all comments and material received during the comment period. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this temporary rule change, and all public comments, are in our online docket at http://www.regulations.gov and can be viewed by following that website's instructions. Additionally, if you go to the online docket and sign up for email alerts, you will be notified when comments are posted or a final rule is published.

Dated: March 18, 2019.
Douglas A. Blakemore,
Bridge Administrator, Eighth Coast Guard District.

[FR Doc. 2019-05473 Filed 3-21-19; 8:45 am]

BILLING CODE 9110-04-P